DEPARTMENT OF TRANSPORTATION

Federal Aviation Administration

14 CFR Part 39

[Docket No. 2000-CE-15-AD; Amendment 39-11925; AD 2000-20-14]

RIN 2120-AA64

Airworthiness Directives; Raytheon Aircraft Company Beech Models A36 and B36TC Airplanes

AGENCY: Federal Aviation Administration, DOT.

ACTION: Final rule.

SUMMARY: This amendment adopts a new airworthiness directive (AD) that applies to certain Raytheon Aircraft Corporation (Raytheon) Beech Models A36 and B36TC airplanes. This AD requires you to inspect for the installation of firewall sealant and install firewall sealant if not present. This AD is the result of a report that firewall sealant was not found during a routine production inspection. The actions specified by this AD are intended to correct the absence of sealant and prevent the consequent entry of smoke or fire into the flight compartment or cabin in the event of an engine compartment fire.

DATES: This AD becomes effective on November 28, 2000.

The Director of the Federal Register approved the incorporation by reference of certain publications listed in the regulations as of November 28, 2000.

ADDRESSES: You may get the service information referenced in this AD from Raytheon Aircraft Company, P.O. Box 85, Wichita, Kansas 67201-0085; telephone: (800) 429-5372 or (316) 676-3140; on the Internet at <http://www.raytheon.com/rac/servinfo/53-3375.pdf>. This file is in Adobe Portable Document Format. The Acrobat Reader is available at <http://www.adobe.com/>. You may examine this information at the Federal Aviation Administration (FAA), Central Region, Office of the Regional Counsel, Attention: Rules Docket No. 2000-CE-15-AD, 901 Locust, Room 506, Kansas City, Missouri 64106; or at the Office of the Federal Register, 800 North Capitol Street, NW, suite 700, Washington, DC 20001.

FOR FURTHER INFORMATION CONTACT: Jeff Pretz, Aerospace Engineer, Wichita Aircraft Certification Office, FAA, 1801 Airport Road, Mid-Continent Airport, Wichita, Kansas 67209; telephone: (316) 946-4153; facsimile: (316) 946-4407.

SUPPLEMENTARY INFORMATION:

Discussion

What events have caused this AD? Raytheon recently notified FAA that a Beech Model A36 airplane did not have sealant between the faying surfaces of the part number (P/N) 109-361023-13 tube assembly fitting and the P/N 36-430054-69 upper firewall panel. Raytheon found this condition during a routine production process inspection.

Other airplanes that were part of this particular production process are:

Beech Model A36: Serial numbers E-3113 through E-3231, E-3233 through E-3263, E-3265 through E-3267, E-3269, E-3271, E-3273, and E3277

Beech Model B36TC: Serial numbers EA-594 through EA-644

What are the consequences if the condition is not corrected? This condition, if not corrected, could result in smoke or fire penetrating the firewall and entering the flight compartment or cabin.

Has FAA taken any action to this point? We issued a proposal to amend part 39 of the Federal Aviation Regulations (14 CFR part 39) to include an AD that would apply to certain Raytheon Beech Models A36 and B36TC airplanes. This proposal was published in the Federal Register as a notice of proposed rulemaking (NPRM) on August 16, 2000 (65 FR 49952). The NPRM proposed to require you to inspect for the installation of firewall sealant; and install firewall sealant if not present.

Was the public invited to comment? Interested persons were afforded an opportunity to participate in the making of this amendment. No comments were received on the proposed rule or the FAA's determination of the cost to the public.

The FAA's Determination

What is FAA's Final Determination on this Issue? After careful review of all available information related to the subject presented above, we have determined that air safety and the public interest require the adoption of the rule as proposed except for minor editorial corrections. We determined that these minor corrections:

• Will not change the meaning of the AD; and

• Will not add any additional burden upon the public than was already proposed.

Cost Impact

How many airplanes does this AD impact? We estimate that this AD affects 134 airplanes in the U.S. registry.

What is the cost impact of this AD on owners/operators of the affected airplanes? We estimate the following costs to accomplish the inspection:

Labor cost | Parts cost | Total cost per airplane | Total cost on U.S. airplane operators
1 workhour × $60 per hour = $60 | No parts required for the inspection | $60 per airplane | $60 × 134 = $8,040.

We estimate the following costs to accomplish the modification:

Labor cost | Parts cost | Total cost per airplane | Total cost on U.S. airplane operators
2 workhours × $60 per hour = $120 | No parts required for the modification | $120 per airplane | $120 × 134 = $16,080.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new AD to read as follows:

2000-20-14 Raytheon Aircraft Company: Amendment 39-11925; Docket No. 2000-CE-15-AD.

(a) What airplanes are affected by this AD? This AD affects the following airplanes, certificated in any category:

Beech Model A36: Serial numbers E-3113 through E-3231, E-3233 through E-3263, E-3265 through E-3267, E-3269, E-3271, E-3273, and E3277.

Beech Model B36TC: Serial numbers EA-594 through EA-644.

(b) Who must comply with this AD? Anyone who wishes to operate any of the above airplanes on the U.S. Register must comply with this AD.

(c) What problem does this AD address? The actions specified by this AD are intended to correct the lack of a firewall seal and consequent progression of fire and smoke through the firewall panel into the flight compartment or cabin in the event of an engine compartment fire.

(d) What actions must I accomplish to address this problem? To address this problem, you must accomplish the following actions:

Actions | Compliance time | Procedures
(1) Inspect for sealant between the faying surfaces of the part number (P/N) 109-361023-13 tube assembly fitting and the P/N 36-430054-69 upper firewall panel | Inspection required within 50 hours time-in-service after November 28, 2000 (the effective date of this AD), and sealant application required before further flight after the inspection | Accomplish all actions in accordance with the ACCOMPLISHMENT INSTRUCTIONS section of Raytheon Mandatory Service Bulletin SB 53-3375, Issued: December 1999.
(i) If sealant is present, no further action is necessary
(ii) If sealant is not present, apply sealant to the tube assembly and the upper firewall panel.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Jeff Pretz, Aerospace Engineer, Wichita Aircraft Certification Office, FAA, 1801 Airport Road, Mid-Continent Airport, Wichita, Kansas 67209; telephone: (316) 946-4153; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Raytheon Mandatory Service Bulletin No. SB 53-3375, dated December 1999. The Director of the Federal Register approved this incorporation by reference under 5 U.S.C. 552(a) and 1 CFR part 51. You can get copies from Raytheon Aircraft Company, P.O. Box 85, Wichita, Kansas 67201-0085; telephone: (800) 429-5372 or (316) 676-3140; on the Internet at <http://www.raytheon.com/rac/servinfo/53-3375.pdf>. This file is in Adobe Portable Document Format. The Acrobat Reader is available at <http://www.adobe.com/>. You can look at copies at the FAA, Central Region, Office of the Regional Counsel, 901 Locust, Room 506, Kansas City, Missouri, or at the Office of the Federal Register, 800 North Capitol Street, NW, suite 700, Washington, DC 20001.

(i) When does this amendment become effective? This amendment becomes effective on November 28, 2000. Issued in Kansas City, Missouri, on September 28, 2000.

Issued in Kansas City, Missouri, on September 28, 2000.
Michael Gallagher,
Manager, Small Airplane Directorate, Aircraft Certification Service.

[FR Doc. 00-25549 Filed 10-12-00; 8:45 am]

BILLING CODE 4910-13-P